DEPARTMENT OF AGRICULTURE

Submission for OMB Review; Comment Request

The Department of Agriculture has submitted the following information collection requirement(s) to OMB for review and clearance under the Paperwork Reduction Act of 1995, Public Law 104-13. Comments are required regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by August 14, 2023 will be considered. Written comments and recommendations for the proposed information collection should be submitted within 30 days of the publication of this notice on the following website www.reginfo.gov/public/do/PRAMain. Find this particular information collection by selecting “Currently under 30-day Review—Open for Public Comments” or by using the search function

An agency may not conduct or sponsor a collection of information unless the collection of information displays a currently valid OMB control number and the agency informs potential persons who are to respond to the collection of information that such persons are not required to respond to the collection of information unless it displays a currently valid OMB control number.

Farm Service Agency

Title: Pandemic Assistance Revenue Program (PARP).

OMB Control Number: 0560-0312.

Summary of Collection: The Farm Service Agency (FSA) is issuing payments under the Consolidated Appropriations Act, 2021 (CAA) to respond to the COVID-19 pandemic by assisting producers who suffered an eligible revenue loss in calendar year 2020, compared to their revenue in 2018 or 2019. The producers suffered revenue losses as they faced continuing market disruptions and reduced farm-level prices due to COVID-19.

Need and Use of the Information: The information submitted by respondents will be used by FSA to determine eligibility and issue payments to eligible applicants under PARP. Applicants will complete the PARP applications along with other applicable forms to apply for PARP payments. Failure to solicit applications will result in failure to provide payments to eligible applicants in response to the COVID-19 pandemic as intended by the CAA.

Description of Respondents: Farms.

Number of Respondents: 313,901.

Frequency of Responses: Reporting; On Occasion.

Total Burden Hours: 266,947.

Ruth Brown,
Departmental Information Collection Clearance Officer.

[FR Doc. 2023-14855 Filed 7-12-23; 8:45 am]

BILLING CODE 3410-05-P